DEPARTMENT OF ENERGY

Federal Energy Regulatory Commission

Combined Notice of Filings #1

June 7, 2006.

Take notice that the Commission received the following electric corporate filings:

Docket Numbers: EC06-126-000; ES06-50-000.

Applicants: Commonwealth Electric Company; Cambridge Electric Light Company; Commonwealth Electric Company; Canal Electric Company; Boston Edison Company.

Description: NSTAR Operating Companies submits an application under Section 203 of the Federal Power Act to merge & consolidate their facilities & Boston Edison Company to increase its authorization to issue short-term debt.

Filed Date: 5/26/2006.

Accession Number: 20060602-0329.

Comment Date: 5 p.m. Eastern Time on Friday, June 16, 2006.

Take notice that the Commission received the following electric rate filings:

Docket Numbers: ER96-1551-016; EL05-2-000; ER01-615-012.

Applicants: Public Service Company of New Mexico.

Description: Public Service Company of New Mexico submits its compliance filing pursuant to the Commission's Order issued 4/21/06.

Filed Date: 5/30/2006.

Accession Number: 20060602-0333.

Comment Date: 5 p.m. Eastern Time on Tuesday, June 20, 2006.

Docket Numbers: ER01-2562-004.

Applicants: Competitive Energy Services, LLC.

Description: Competitive Energy Services LLC submits its revised market-based rate tariff designated as Revised Rate Schedule 1.

Filed Date: 5/3/2006.

Accession Number: 20060530-0041.

Comment Date: 5 p.m. Eastern Time on Wednesday, June 14, 2006.

Docket Numbers: ER02-2134-004.

Applicants: Just Energy, LLC.

Description: Just Energy, LLC submits a supplemental triennial market analysis filing.

Filed Date: 5/23/2006.

Accession Number: 20060601-0069.

Comment Date: 5 p.m. Eastern Time on Tuesday, June 13, 2006.

Docket Numbers: ER04-954-001.

Applicants: Ritchie Energy Products, L.L.C.

Description: Ritchie Energy Products, LLC submits a notification of a non-material change in status relating to its authorization to sell power at market-based rates.

Filed Date: 5/26/2006.

Accession Number: 20060605-0297.

Comment Date: 5 p.m. Eastern Time on Friday, June 16, 2006.

Docket Numbers: ER06-973-000.

Applicants: West Penn Power Company; Monongahela Power Company; The Potomac Edison Company.

Description: Allegheny Power submits a withdrawal of its Notice of Cancellation filed 5/8/06 in reference to a Power Supply Agreement with Baltimore Gas & Electric Company.

Filed Date: 5/30/2006.

Accession Number: 20060530-5006.

Comment Date: 5 p.m. Eastern Time on Tuesday, June 20, 2006.

Docket Numbers: ER06-977-000.

Applicants: West Penn Power Company; Monongahela Power Company; The Potomac Edison Company.

Description: Allegheny Power submits a withdrawal of its Notice of Cancellation filed 5/8/06 in reference to a Power Supply Agreement with Delmarva Power & Light Company.

Filed Date: 5/30/2006.

Accession Number: 20060530-5007.

Comment Date: 5 p.m. Eastern Time on Tuesday, June 20, 2006.

Docket Numbers: ER06-978-000.

Applicants: West Penn Power Company; Monongahela Power Company; The Potomac Edison Company.

Description: Allegheny Power submits a withdrawal of its Notice of Cancellation filed 5/8/06 in reference to a Power Supply Agreement with Philadelphia Electric Company.

Filed Date: 5/30/2006.

Accession Number: 20060530-5008.

Comment Date: 5 p.m. Eastern Time on Tuesday, June 20, 2006.

Docket Numbers: ER06-980-000.

Applicants: West Penn Power Company; Monongahela Power Company; The Potomac Edison Company.

Description: Allegheny Power submits a withdrawal of its Notice of Cancellation filed 5/8/06 in reference to a Power Supply Agreement with Public Service Electric & Gas Company.

Filed Date: 5/30/2006.

Accession Number: 20060530-5009.

Comment Date: 5 p.m. Eastern Time on Tuesday, June 20, 2006.

Docket Numbers: ER06-982-000.

Applicants: West Penn Power Company; Monongahela Power Company; The Potomac Edison Company.

Description: Allegheny Power submits withdrawal of its Notice of Cancellation filed 5/8/06 in reference to a Power Supply Agreement with Pennsylvania Power and Light Company.

Filed Date: 5/30/2006.

Accession Number: 20060530-5011.

Comment Date: 5 p.m. Eastern Time on Tuesday, June 20, 2006.

Docket Numbers: ER06-1017-000.

Applicants: West Penn Power Company; Monongahela Power Company; The Potomac Edison Company.

Description: Allegheny Power submits withdrawal of its Notice of Cancellation filed 5/8/06 in reference to a Power Supply Agreement with Atlantic City Electric Company.

Filed Date: 5/30/2006.

Accession Number: 20060530-5013.

Comment Date: 5 p.m. Eastern Time on Tuesday, June 20, 2006.

Docket Numbers: ER06-1056-000.

Applicants: Wisconsin Electric Power Company.

Description: Wisconsin Electric Power Co submits proposed amendments to its Metering Service Agreement with Wisconsin Public Power Inc, FERC Tariff 115.

Filed Date: 5/31/2006.

Accession Number: 20060602-0336.

Comment Date: 5 p.m. Eastern Time on Wednesday, June 21, 2006.

Docket Numbers: ER06-1057-000.

Applicants: WPS Resources Operating Companies.

Description: WPS Resources Operating Companies, on behalf of Wisconsin Public Service Corp and Upper Peninsula Power Company, submits an executed service agreement with Wisconsin Public Power Inc.

Filed Date: 5/30/2006.

Accession Number: 20060602-0335.

Comment Date: 5 p.m. Eastern Time on Tuesday, June 20, 2006.

Docket Numbers: ER06-1058-000.

Applicants: New Covert Generating Company, LLC.

Description: New Covert Generating Company, LLC submits its proposed FERC Electric Tariff, Original Volume 2 and supporting cost data under which it specifies its revenue requirement for providing cost-based reactive supply and voltage control.

Filed Date: 5/31/2006.

Accession Number: 20060605-0098.

Comment Date: 5 p.m. Eastern Time on Wednesday, June 21, 2006.

Docket Numbers: ER06-1059-000.

Applicants: Midwest Independent Transmission System Operator, Inc.

Description: Midwest Independent Transmission System Operator Inc submits executed Large Generator Interconnection Agreement among Ameren Services Co et al.

Filed Date: 5/31/2006.

Accession Number: 20060602-0334.

Comment Date: 5 p.m. Eastern Time on Wednesday, June 21, 2006.

Docket Numbers: ER06-1060-000.

Applicants: Southwest Power Pool, Inc.

Description: Southwest Power Pool Inc submits executed interconnection agreement with Associated Electric Cooperative Inc and Oklahoma Gas and Electric Company designated as Service Agreement No. 1249.

Filed Date: 5/31/2006.

Accession Number: 20060602-0337.

Comment Date: 5 p.m. Eastern Time on Wednesday, June 21, 2006.

Docket Numbers: ER06-1061-000.

Applicants: American Electric Power Service Corporation.

Description: American Electric Power Service Corp on behalf of AEP Eastern Operating Companies submits proposed revisions to Second Amended and Restated PJM Services and Cost Allocation Agreement.

Filed Date: 5/31/2006.

Accession Number: 20060602-0338.

Comment Date: 5 p.m. Eastern Time on Wednesday, June 21, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-9369 Filed 6-15-06; 8:45 am]

BILLING CODE 6717-01-P